DEPARTMENT OF TRANSPORTATION

Coast Guard

33 CFR Parts 161 and 167

[USCG-2001-10254]

RIN 2115-AG20

Traffic Separation Scheme: In Prince William Sound, AK

AGENCY: Coast Guard, DOT.

ACTION: Final rule.

SUMMARY: The Coast Guard is amending the existing Traffic Separation Scheme (TSS) in Prince William Sound, Alaska. The amendments were adopted by the International Maritime Organization and validated by a recent Port Access Route Study (PARS). These amendments provide straight traffic lanes between the Bligh Reef Pilot Station and Cape Hinchinbrook and reduce risk for vessels operating in the area.

DATES: This final rule is effective September 18, 2002.

ADDRESSES: Comments and material received from the public, as well as documents mentioned in this preamble as being available in the docket, are part of docket USCG-2001-10254 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this final rule, call LT Keith Ropella, U.S. Coast Guard Marine Safety Office, Valdez, AK, telephone 907-835-7209, e-mail KRopella@cgalaska.uscg.mil; or George Detweiler, Coast Guard, Office of Vessel Traffic Management (G-MWV), telephone 202-267-0574, e-mail GDetweiler@comdt.uscg.mil. If you have questions on viewing the docket, call Dorothy Beard, Chief, Dockets, Department of Transportation, telephone 202-366-5149.

SUPPLEMENTARY INFORMATION:

Regulatory History

On February 6, 2001, we published a notice of proposed rulemaking (NPRM) entitled “Traffic Separation Scheme: In Prince William Sound, Alaska” in the Federal Register (67 FR 5538). We received no letters commenting on the proposed rule. No public hearing was requested and none was held.

Background and Purpose

The Prince William Sound (Alaska) Traffic Separation Scheme (TSS) is an internationally recognized routing measure used to minimize the risk of collision by separating vessels, through traffic lanes, into opposing streams of traffic. The original TSS in Prince William Sound ran from the vicinity of Cape Hinchinbrook through Prince William Sound and into the Valdez Arm (the entrance to Port Valdez). The International Maritime Organization (IMO) adopted this TSS in 1992. It is reflected on National Oceanic and Atmospheric Administration (NOAA) nautical chart 16700 and in “Ships Routeing,” Seventh Edition 1999, International Maritime Organization.

On August 26, 1999, we published the results of a study in the Federal Register (64 FR 4662), which concluded that modifications to the original TSS were needed to improve vessel traffic management and safety and to reduce the risk of drift groundings.

Discussion of the Rule

This rule amends the original TSS in Prince William Sound by adopting the following amendments, as implemented by IMO on June 1, 2001:

1. Establishing a precautionary area southeast of Cape Hinchinbrook at the entrance to Prince William Sound.

2. Straightening the Prince William Sound portion of the TSS to eliminate a course change.

3. Establishing a precautionary area at the Bligh Reef Pilot Station. This precautionary area divides the present TSS into two separate traffic separation schemes—a Prince William Sound traffic separation scheme and a Valdez Arm traffic separation scheme. The new Valdez Arm TSS is slightly wider than the Valdez Arm portion of the original TSS.

Since IMO has already adopted and implemented the proposed traffic separation schemes and precautionary areas in its “Ships” Routeing Guide,” this rule aligns title 33, part 167, of the Code of Federal Regulations (CFR) with that guide.

Discussion of Changes Since the NPRM

We have made one change, a minor one, to the proposed regulatory text presented in the NPRM. This change should have no impact on the mariner, other than to avoid confusion, and is explained as follows.

In § 160.60(b) of the NPRM, we proposed to enlarge the Valdez Narrows Vessel Traffic Service (VTS) Special Area to include the portion of the TSS located in the Valdez Arm. This would have given the Commanding Officer of the VTS the authority to direct vessels into the separation zone if, for example, the traffic lanes became partially blocked by ice from the Columbia Glacier. Enlarging the Valdez Narrows VTS Special Area as proposed also meant that the existing regulations for the current special area would apply to the newly included geographic area. We re-analyzed this proposal and determined that the regulations for the Valdez Narrows VTS Special Area are not appropriate for the new, enlarged special area. Were we to make the regulations applicable to this new, enlarged area, we might confuse the mariner transiting to and from the Port of Valdez. Therefore, instead of enlarging the existing Valdez Narrows VTS Special Area, we have decided to create a separate Valdez Arm VTS Special Area. (See new § 161.60(b) in this final rule.) The geographic area encompassed by the two separate VTS Special Areas is identical to that of the enlarged Valdez Narrows VTS Special Area originally proposed in the NPRM. Mariners who transit to and from the Port of Valdez are very familiar with the Valdez Narrows VTS Special Area as it exists today. Leaving it as it is and creating a new Valdez Arm VTS Special Area will have no substantive effect on the mariner, other than to avoid confusion. In fact, the new regulation will be transparent to the mariners as they transit to and from the Port of Valdez.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this rule to be so minimal that a full Regulatory Evaluation under paragraph 10e of the regulatory policies and procedures of DOT is unnecessary. The costs and benefits of this rule are summarized below:

Costs

Vessel operators would incur the minimal cost of plotting new coordinates on their existing charts or purchasing updated charts when available.

Benefits

The amendments to the TSS in Prince William Sound, Alaska, will increase the margin of safety for all vessels accessing the Port of Valdez. The new Precautionary Areas and amended traffic lanes will decrease the chance of collisions, allisions, and drift groundings were a vessel to become disabled. Vessels transiting the Prince William Sound TSS should experience cost savings through decreased operational costs, because the new transit lanes in the Sound are shorter.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule will have a reduced economic impact on vessels operated by small entities. The rule amends an existing TSS. This action improves safety for commercial vessels using the TSS by reducing the risk of collisions, allisions, and drift groundings. Vessels that tend to use the TSS's are commercial vessels, such as tankers. These vessels are usually large and capable of operating in an offshore environment. Vessels voluntarily transiting the TSS will transit 1.5 to 2.5 nautical miles fewer per trip. The reduced transit distance results in decreased vessel operating costs, which would positively affect the overall cost of the complete voyage.

Therefore, the Coast Guard certifies under 5 U.S.C. 605(b) that this final rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking. If this rule affects your small business, organization, or governmental jurisdiction and you have questions concerning its provisions or options for compliance, please consult George Detweiler, Coast Guard, Marine Transportation Specialist, at 202-267-0574.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Title I of the Ports and Waterways Safety Act (33 U.S.C. 1221 et. seq.) (PWSA) authorizes the Secretary to promulgate regulations to designate and amend traffic separation schemes (TSS's) to protect the marine environment. In enacting PWSA in 1972, Congress found that advance planning and consultation with the affected States and other stakeholders was necessary in the development and implementation of a TSS. Throughout the development of the TSS in Prince William Sound, we consulted with the Valdez Marine Operators Committee (VMOC), the affected State and Federal pilot's associations, vessel operators, users, and all affected stakeholders. The VMOC includes individuals who represent the interests of local commercial shipping and industry, as well as members from the Regional Citizens Advisory Council, and the State of Alaska. The VMOC was an active participant in various meetings with the Coast Guard and has contributed to this rulemaking.

Presently, there are no Alaska State laws or regulations concerning the same subjects as are contained in this proposed rule. We understand that the State does not contemplate issuing any such rules. However, it should be noted, that by virtue of the PWSA authority, the TSS in this rule will preempt any state rule on the same subject.

In order to be applicable to foreign flag vessels on the high seas, TSS's must be submitted to, approved by, and implemented by IMO. The Coast Guard is the principal United States agency responsible for advancing the interests of the United States at IMO. In this role, we work with all interested parties to advance the goals of this TSS to make Prince William Sound more safe and environmentally secure.

Unfunded Mandates Reform Act

The Unfunded Mandates Reform Act of 1995 (2 U.S.C. 1531-1538) requires Federal agencies to assess the effects of their regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph (34)(i), of Commandant Instruction M16475.lD, this rule is categorically excluded from further environmental documentation. This rule adjusts an existing traffic separation scheme. A “Categorical Exclusion Determination” is available in the docket where indicated under ADDRESSES.

List of Subjects

33 CFR Part 161

Harbors, Navigation (water), Reporting and recordkeeping requirements, Vessels, and Waterways.

33 CFR Part 167

Harbors, Marine safety, Navigation (water), and Waterways.

For the reasons discussed in the preamble, the Coast Guard amends 33 CFR parts 161 and 167 as follows:

PART 161—VESSEL TRAFFIC MANAGEMENT

1. The authority citation for part 161 continues to read as follows:

Authority: 33 U.S.C. 1221; 33 U.S.C. 1223; 49 CFR 1.46.

2. In § 161.60, redesignate paragraphs (b) through (d) as paragraphs (c) through (e), respectively, and add a new paragraph (b) to read as follows:

§ 161.60 Vessel Traffic Service Prince William Sound.

* * * * *

(b) The Valdez Arm VTS Special Area consists of the waters of the Valdez Arm Traffic Separation Scheme (described in § 167.1703 of this chapter); the waters northeast of a line drawn from shoreline to shoreline through the points 60°58.04′N, 146°46.52′W and 60°58.93′N, 146°48.86′W; and southwest of a line bearing 307° True from Tongue Point at 61°02.10′N, 146°40.00′W.

* * * * *

PART 167—OFFSHORE TRAFFIC SEPARATION SCHEMES

3. The authority citation for part 167 continues to read as follows:

Authority: 33 U.S.C. 1223; 49 CFR 1.46.

4. Add §§ 167.1700 through 167.1703 to read as follows:

§ 167.1700 In Prince William Sound: General.

The Prince William Sound Traffic Separation Scheme consists of four parts: Prince William Sound Traffic Separation Scheme, Valdez Arm Traffic Separation Scheme, and two precautionary areas. These parts are described in §§ 167.1701 through 167.1703. The geographic coordinates in §§ 167.1701 through 167.1703 are defined using North American Datum 1983 (NAD 83).

§ 167.1701 In Prince William Sound: Precautionary areas.

(a) Cape Hinchinbrook. A precautionary area is established and is bounded by a line connecting the following geographical positions:

Latitude | Longitude
60°20.59′N | 146°48.18′W
60°12.67′N | 146°40.43′W
60°11.01′N | 146°28.65′W
60°05.47′N | 146°00.01′W
60°00.81′N | 146°03.53′W
60°05.44′N | 146°27.58′W
59°51.80′N | 146°37.51′W
59°53.52′N | 146°46.84′W
60°07.76′N | 146°36.24′W
60°11.51′N | 146°46.64′W
60°20.60′N | 146°54.31′W

(b) Bligh Reef. A precautionary area is established of radius 1.5 miles centered at geographical position 60°49.63′N, 147°01.33′W.

(c) Pilot boarding area. A pilot boarding area located near the center of the Bligh Reef precautionary area is established. Regulations for vessels operating in these areas are in § 165.1109(d) of this chapter.

§ 167.1702 In Prince William Sound: Prince William Sound Traffic Separation Scheme.

The Prince William Sound Traffic Separation Scheme consists of the following:

(a) A separation zone bounded by a line connecting the following geographical positions:

Latitude | Longitude
60°20.77′N | 146°52.31′W
60°48.12′N | 147°01.78′W
60°48.29′N | 146°59.77′W
60°20.93′N | 146°50.32′W

(b) A traffic lane for northbound traffic between the separation zone and a line connecting the following geographical positions:

Latitude | Longitude
60°20.59′N | 146°48.18′W
60°49.49′N | 146°58.19′W

(c) A traffic lane for southbound traffic between the separation zone and a line connecting the following geographical positions:

Latitude | Longitude
60°49.10′N | 147°04.19′W
60°20.60′N | 146°54.31′W

§ 167.1703 In Prince William Sound: Valdez Arm Traffic Separation Scheme.

The Valdez Arm Traffic Separation Scheme consists of the following:

(a) A separation zone bounded by a line connecting the following geographical positions:

Latitude | Longitude
60°51.08′N | 147°00.33′W
60°58.60′N | 146°48.10′W
60°58.30′N | 146°47.10′W
60°50.45′N | 146°58.75′W

(b) A traffic lane for northbound traffic between the separation zone and a line connecting the following geographical positions:

Latitude | Longitude
60°49.39′N | 146°58.19′W
60°58.04′N | 146°46.52′W

(c) A traffic lane for southbound traffic between the separation zone and a line connecting the following geographical positions:

Latitude | Longitude
60°58.93′N | 146°48.86′W
60°50.61′N | 147°03.60′W

Dated: July 26, 2002.
Paul J. Pluta,
Rear Admiral, U.S. Coast Guard, Assistant Commandant for Marine Safety, Security and Environmental Protection.

[FR Doc. 02-21031 Filed 8-16-02; 8:45 am]

BILLING CODE 4910-15-P